NUCLEAR REGULATORY COMMISSION

[Docket Nos. 50-338 and 50-339; NRC-2020-0234]

Notice of Intent To Conduct Scoping Process and Prepare Environmental Impact Statement; Virginia Electric and Power Company; North Anna Power Station, Unit Nos. 1 and 2

AGENCY: Nuclear Regulatory Commission.

ACTION: Intent to conduct scoping process and prepare environmental impact statement; public scoping meeting and request for comment.

SUMMARY: The U.S. Nuclear Regulatory Commission (NRC) will conduct a scoping process to gather information necessary to prepare an environmental impact statement (EIS) to evaluate the environmental impacts for the subsequent license renewal of the operating licenses for North Anna Power Station, Unit Nos. 1 and 2 (North Anna). The NRC is seeking stakeholder input on this action and has scheduled a public scoping meeting that will take place as an online webinar.

DATES: The NRC will hold a public scoping meeting as an online webinar on November 4, 2020, from 1:00 p.m. to 3:00 p.m. Eastern Standard Time (EST). Submit comments on the scope of the EIS by November 23, 2020. Comments received after November 23, 2020 will be considered if it is practical to do so, but assurance of consideration cannot be given to comments received after this date.

ADDRESSES: You may submit comments by any of the following methods (unless this document describes a different method for submitting comments on a specific subject):

• Federal Rulemaking Website: Go to https://www.nrc.gov and search for Docket ID NRC-2020-0234. Address questions about Docket IDs in Regulations.gov to Jennifer Borges; telephone: 301-287-9127; email: Jennifer.Borges@nrc.gov. For technical questions, contact the individual listed in the FOR FURTHER INFORMATION CONTACT section of this document.

• Mail comments to: Office of Administration, Mail Stop TWFN7A60M, U.S. Nuclear Regulatory Commission, Washington, DC 20555-0001. For additional direction on obtaining information and submitting comments, see “Obtaining Information and Submitting Comments” in the SUPPLEMENTARY INFORMATION section of this document.

FOR FURTHER INFORMATION CONTACT: Tam Tran, Office of Nuclear Material Safety and Safeguards, U.S. Nuclear Regulatory Commission, Washington, DC 20555-0001; telephone: 301-415-3617, email: Tam.Tran@nrc.gov.

SUPPLEMENTARY INFORMATION:

I. Obtaining Information and Submitting Comments

A. Obtaining Information

Please refer to Docket ID NRC-2020-0234 when contacting the NRC about the availability of information regarding this document. You may obtain publicly available information related to this document by any of the following methods:

• Federal Rulemaking Website: Go to https://regulations.gov and search for Docket ID NRC-2020-0234.

• NRC's Agencywide Documents Access and Management System (ADAMS): You may obtain publicly available documents online in the NRC Library at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. Virginia Electric and Power Co.'s (Dominion) application for subsequent renewal of the North Anna licenses can be found in (ADAMS Package Accession No. ML20246G703).

• Attention: The PDR, where you may examine and order copies of public documents is currently closed. You may submit your request to the PDR via email at PDR.Resource@nrc.gov or call 1-800-397-4209 between 8:00 a.m. and 4:00 p.m. (EST), Monday through Friday, except Federal holidays.

B. Submitting Comments

The NRC encourages electronic comment submission through the Federal Rulemaking website (https://www.regulations.gov). Please include Docket ID NRC-2020-0234 in your comment submission in order to ensure that the NRC is able to make your comment submission available to the public in this docket.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On August 24, 2020 Dominion submitted to the NRC an application for subsequent license renewal (SLR) of Renewed Facility Operating License Nos. NPF-4 and NPF-7 for an additional 20 years of operation at North Anna Power Station, Unit Nos. 1 and 2 (ADAMS Package Accession No. ML20246G703). Dominion's submission initiated the NRC's proposed action: To grant or deny Dominion's SLR application for renewed power reactor operating licenses, which, if granted, would authorize North Anna to operate for an additional 20 years. The North Anna units are pressurized water reactors designed by Westinghouse Electric Corporation and are located in Louisa County, Virginia. The current renewed operating license for Unit No. 1 expires at midnight on April 1, 2038, and the current renewed operating license for Unit No. 2 expires at midnight on August 21, 2040. The SLR application was submitted pursuant to part 54 of title 10 of the Code of Federal Regulations (10 CFR) and included an environmental report (ER). A notice of receipt and availability of the application was published in the Federal Register on September 21, 2020 (85 FR 59334). A notice of acceptance for docketing of the application and opportunity for hearing regarding subsequent license renewal of the North Anna operating licenses was published in the Federal Register on October 15, 2020 (85 FR 65438) and is available in Regulations.gov by searching for Docket ID NRC-2020-0201.

III. Request for Comments

This notice informs the public of the NRC's intention to conduct environmental scoping and prepare an EIS related to Dominion's SLR application, and to provide the public an opportunity to participate in the environmental scoping process, as defined in 10 CFR 51.29.

The regulations in 36 CFR 800.8, “Coordination with the National Environmental Policy Act,” allow agencies to use their National Environmental Policy Act of 1969 (NEPA) process to fulfill the requirements of Section 106 of the National Historic Preservation Act (NHPA). Therefore, pursuant to 36 CFR 800.8(c), the NRC intends to use its process and documentation for the preparation of the EIS on the proposed action to comply with Section 106 of the NHPA in lieu of the procedures set forth at 36 CFR 800.3 through 800.6.

In accordance with 10 CFR 51.53(c) and 10 CFR 54.23, Dominion submitted an ER as part of the SLR application. The ER was prepared pursuant to 10 CFR part 51 and is publicly available (ADAMS Accession No. ML20246G698). The ER may also be viewed on the internet at https://www.nrc.gov/reactors/operating/licensing/renewal/subsequent-license-renewal.html. In addition, the SLR application including the ER are available for public review on the website of the Louisa County Library at https://jmrl.org/br-louisa.htm.

The NRC intends to gather the information necessary to prepare a plant-specific supplement to the NRC's NUREG-1437, “Generic Environmental Impact Statement for License Renewal of Nuclear Plants” (GEIS), related to the application for subsequent license renewal of the North Anna operating licenses for an additional 20 years beyond the period specified in each of the current renewed licenses. The NRC is required by 10 CFR 51.95 to prepare a plant-specific supplement to the GEIS in connection with the renewal of an operating license. This notice is being published in accordance with NEPA and the NRC's regulations found at 10 CFR part 51.

The supplement to the GEIS will evaluate the environmental impacts of subsequent license renewal for North Anna Unit Nos. 1 and 2, and reasonable alternatives thereto. Possible alternatives to the proposed action include the no action alternative and reasonable alternative energy sources.

As part of its environmental review process, the NRC will first conduct scoping for the supplement to the GEIS and, as soon as practicable thereafter, will prepare a draft supplement to the GEIS for public comment. Participation in the scoping process by members of the public and local, State, Tribal, and Federal government agencies is encouraged. The scoping process for the supplement to the GEIS will be used to accomplish the following:

a. Define the proposed action, which is to be the subject of the supplement to the GEIS;

b. Determine the scope of the supplement to the GEIS and identify the significant issues to be analyzed in depth;

c. Identify and eliminate from detailed study those issues that are peripheral or are not significant; or were covered by a prior environmental review;

d. Identify any environmental assessments and other ElSs that are being or will be prepared that are related to, but are not part of, the scope of the supplement to the GEIS being considered;

e. Identify other environmental review and consultation requirements related to the proposed action;

f. Indicate the relationship between the timing of the preparation of the environmental analyses and the Commission's tentative planning and decision-making schedule;

g. Identify any cooperating agencies and, as appropriate, allocate assignments for preparation and schedules for completing the supplement to the GEIS to the NRC and any cooperating agencies; and

h. Describe how the supplement to the GEIS will be prepared, including any contractor assistance to be used.

The NRC invites the following entities to participate in scoping:

a. The applicant, Dominion;

b. Any Federal agency that has jurisdiction by law or special expertise with respect to any environmental impact involved or that is authorized to develop and enforce relevant environmental standards;

c. Affected State and local government agencies, including those authorized to develop and enforce relevant environmental standards;

d. Any affected Indian Tribe;

e. Any person who requests or has requested an opportunity to participate in the scoping process; and

f. Any person who has petitioned or intends to petition for leave to intervene under 10 CFR 2.309.

IV. Public Scoping Meeting

In accordance with 10 CFR 51.26(b), the scoping process for an EIS may include a public scoping meeting to help identify significant issues related to a proposed activity and to determine the scope of issues to be addressed in an EIS.

The NRC is announcing that it will hold a public scoping meeting as an online webinar, for the North Anna subsequent license renewal supplement to the GEIS. The webinar will offer a telephone line for members of the public to provide comments. A court reporter will record and transcribe all comments received during the webinar. To be considered, comments must be provided either at the transcribed public meeting or in writing, as discussed in the ADDRESSES section of this document. The date and time for the public scoping webinar are as follows:

Meeting | Date | Time | Location
Public Scoping Webinar | 11/4/2020 | 1:00 p.m. to 3:00 p.m. (EST) | Webinar Information: https://usnrc.webex.com. Event number: 199 753 7173. Telephone Bridge Line: 1-800-369-2157. Participant Passcode: 525781#.

The public scoping meeting will include: (1) An overview by the NRC staff of the environmental and safety review processes, the proposed scope of the supplement to the GEIS, and the proposed review schedule; and (2) the opportunity for interested government agencies, organizations, and individuals to submit comments or suggestions on environmental issues or the proposed scope of the North Anna subsequent license renewal supplement to the GEIS.

Persons interested in attending this online webinar should monitor the NRC's Public Meeting Schedule at https://www.nrc.gov/pmns/mtg for additional information, agendas for the meeting, and access information for the webinar. Participants should register in advance of the meeting by visiting the website https://usnrc.webex.com and using the event number provided in this notice. A confirmation email will be generated providing additional details and a link to the webinar. Please contact Tam Tran no later than November 2, 2020, if accommodations or special equipment is needed to attend or to provide comments, so that the NRC staff can determine whether the request can be accommodated.

Participation in the scoping process for the North Anna subsequent license renewal supplement to the GEIS does not entitle participants to become parties to the proceeding to which the supplement to the GEIS relates. Matters related to participation in any hearing are outside the scope of matters to be discussed at this public meeting.

Dated: October 19, 2020.
For the Nuclear Regulatory Commission.
Robert B. Elliott,
Chief, Environmental Review License Renewal Branch, Division of Rulemaking, Environment, and Financial Support, Office of Nuclear Material Safety and Safeguards.

[FR Doc. 2020-23463 Filed 10-22-20; 8:45 am]

BILLING CODE 7590-01-P